OFFICE OF PERSONNEL MANAGEMENT

5 CFR Part 532

RIN 3206-AN18

Prevailing Rate Systems; Redefinition of the Harrisburg, PA and Scranton-Wilkes-Barre, PA, Appropriated Fund Federal Wage System Wage Areas

AGENCY: U.S. Office of Personnel Management.

ACTION: Final rule.

SUMMARY: The U.S. Office of Personnel Management (OPM) is issuing a final rule that would redefine the geographic boundaries of the Harrisburg, PA, and Scranton-Wilkes-Barre, PA, appropriated fund Federal Wage System (FWS) wage areas. The final rule will redefine Montour County, PA, from the Harrisburg wage area to the Scranton-Wilkes-Barre wage area. This change is based on a consensus recommendation of the Federal Prevailing Rate Advisory Committee (FPRAC) to best match the county proposed for redefinition to a nearby FWS survey area.

DATES: Effective date: This regulation is effective on November 30, 2015. Applicability date: This change applies on the first day of the first applicable pay period beginning on or after December 30, 2015.

FOR FURTHER INFORMATION CONTACT: Madeline Gonzalez, by telephone at (202) 606-2858 or by email at pay-leave-policy@opm.gov.

SUPPLEMENTARY INFORMATION: On July 31, 2015, OPM issued a proposed rule (80 FR 45616) to redefine Montour County, PA, from the Harrisburg, PA, wage area to the Scranton-Wilkes-Barre, PA, wage area.

FPRAC, the national labor-management committee responsible for advising OPM on matters concerning the pay of FWS employees, reviewed and recommended this change by consensus.

The proposed rule had a 30-day comment period, during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Beth F. Cobert,
Acting Director.

Accordingly, the U.S. Office of Personnel Management amends 5 CFR part 532 as follows:

PART 532—PREVAILING RATE SYSTEMS

1. The authority citation for part 532 continues to read as follows:

Authority: 5 U.S.C. 5343, 5346; § 532.707 also issued under 5 U.S.C. 552.

2. Appendix C to subpart B is amended by revising the wage area listings for the Harrisburg, PA, and Scranton-Wilkes-Barre, PA, wage areas to read as follows:

Appendix C to Subpart B of Part 532—Appropriated Fund Wage and Survey Areas

* * * * *

* * * * *
PENNSYLVANIA
Harrisburg
Survey Area
Pennsylvania:
Cumberland
Dauphin
Lebanon
York
Area of Application. Survey area plus:
Pennsylvania:
Adams
Berks
Juniata
Lancaster
Lycoming (Allenwood Federal Prison Camp portion only)
Mifflin
Northumberland
Perry
Schuylkill
Snyder
Union
* * * * *
Scranton-Wilkes-Barre
Survey Area
Pennsylvania:
Lackawanna
Luzerne
Monroe
Area of Application. Survey area plus:
Pennsylvania:
Bradford
Columbia
Lycoming (Excluding Allenwood Federal Prison Camp)
Montour
Sullivan
Susquehanna
Wayne
Wyoming
* * * * *

[FR Doc. 2015-30308 Filed 11-27-15; 8:45 am]

BILLING CODE 6325-39-P